DEPARTMENT OF ENERGY

Federal Energy Regulatory Commission

[Docket No. OR03-5-000]

Chevron Products Company, Complainant, v. SFPP, L.P., Respondent; Errata Notice

July 11, 2003.

On July 3, 2003, the Commission issued a Notice of Complaint (68 FR 41116) in the above-captioned proceeding. This Notice is corrected as follows:

(1) In the first line of the first paragraph the correct filing date of the complaint is July 2, 2003.

(2) The correct Comment Date is July 22, 2003.

Magalie R. Salas,
Secretary.

[FR Doc. 03-18218 Filed 7-17-03; 8:45 am]

BILLING CODE 6717-01-P